DEPARTMENT OF COMMERCE

Foreign-Trade Zones Board

[Docket 50-2002]

Foreign-Trade Zone 2—New Orleans, LA; Application for Expansion

An application has been submitted to the Foreign-Trade Zones Board (the Board) by the Board of Commissioners of the Port of New Orleans (the Port), grantee of FTZ 2, requesting authority to expand its zone in the New Orleans, Louisiana area, within the New Orleans Customs port of entry. The application was submitted pursuant to the provisions of the Foreign-Trade Zones Act (19 U.S.C. 81a-81u), and the regulations of the Board (15 CFR part 400). It was formally filed on November 6, 2002

FTZ 2 was approved by the Board on July 16, 1946 (Board Order 12, 11 FR 8235, July 31, 1946). The zone has since been expanded four times (Board Orders 245, 331, 544 & 1000) and currently consists of seven sites (1,035 acres) in the New Orleans, Louisiana area:

Site 1 (4 Parcels, 19 acres total) as follows:

—8 acres at 100 Napoleon Avenue

—7 acres at 500 Louisiana Avenue (expires 12/1/02)

—1 acre at 500 N. Cortez Street

—3 acres at 720 Richard Street (expires 12/1/02);

Site 2 (76 acres) within the Almonaster-Michoud Industrial District (AMID) on the Inner Harbor Navigation Canal and the Mississippi River Gulf Outlet;

Site 3 (573 acres)—within the Newport Industrial Park, adjacent to AMID;

Site 4 (4 acres, 159,000 sq. ft.) at 200 Croften Road, adjacent to the New Orleans International Airport, Kenner (Jefferson Parish);

Site 5 (21 parcels (some temporary), 111 acres total) at public/LME warehouse facilities at or adjacent to the Port of New Orleans as follows:

—7 acres at 5200 Coffee Drive, operated by Port Cargo Services, Inc. (PCS)

—2 acres at 601 Market Street, operated by PCS

—2 acres at 1601 Tchoupitoulas Street, operated by Neeb-Kearney, & Company, Inc. (NKI)

—12 acres at 5630 Douglas Street, owned and operated by Dupuy Storage and Forwarding Corporation (DSFC)

—9 acres at 6230 Bienvenue Street, operated by Metro International Trade Services, Inc. (MITSI)

—7 acres at 1400 Montegut Street, owned and operated by DSFC

—1 acre at 1645 Tchoupitoulas Street, operated by PCS

—1 acre at 1770 Tchoupitoulas Street, operated by Pacorini USA, Inc. (PUI)

—9 acres at 1930 Japonica Street, operated by MITSI

—2 acres at 2941 Royal Street, operated by NKI

—2 acres at 600 Market Street, operated by MITSI

—1 acre at 3101 Charters Street, operated by MITSI

—1 acre at 2601 Decatur Street, operated by DSFC

—1 acre at 2520 Decatur Street, operated by DSFC

—13 acres at 5300 Old Gentilly Boulevard, operated by DSFC

—8 acres at 4400 Florida Avenue, operated by PCS

—2 acres at 410, 420 & 440 Josephine Street and 427 Jackson Avenue, operated by PUI

—12 acres at 701/801 Thayer Street & 700/800 Atlantic Street operated by PCS

—9 acres at 500 Edwards Avenue, Harahan, operated by PCS

—9 acres at 14100 Chef Menteur Highway, New Orleans; operated by NKI; and,

—1 acre at 2114-2120 Rousseau Street, operated by PCS.

Site 6 (136 acres)—Arabi Terminal and Industrial Park, at Mile Point 90.5 on the Mississippi River, Arabi, owned and operated by the St. Bernard Port Harbor and Terminal District; and,

Site 7 (216 acres)—Chalmette Terminal and Industrial Park, one mile down river from the Arabi Terminal, owned and operated by the St. Bernard Port Harbor and Terminal District.

The applicant is now requesting authority to update, expand and reorganize the zone as described below. The proposal seeks to reorganize the site plan and site designations, to extend zone status to parcels with temporary authority, to restore zone status to parcels previously deleted from the zone in earlier changes, and to expand existing Site 5 by adding 8 new public/LME warehouse facilities.

Site 1 will be reduced to include only the 8-acre site at 100 Napoleon Avenue, New Orleans with the three other parcels being shifted to Site 5;

Site 3 will be reorganized to reinstate the 112 acres previously deleted through the approval of temporary modifications. The reorganized site would cover 685 acres within the Newport Industrial Park, Paris Road, Chalmette;

Site 5 will be reorganized and expanded to include all parcels listed above on a permanent basis, to include the three parcels from Site 1 on a permanent basis, and to include 8 new parcels at additional public/LME warehouse facilities at or adjacent to the Port of New Orleans (49 acres total) as follows:

—10 acres at 1000 Burmaster Street, New Orleans, operated by NKI;

—7 acres at 6025 River Road, New Orleans, operated by MITSI;

—17 acres at 620/640 River Road, Westwego, operated by PCS;

—1 acre at 1806 Religious Street, New Orleans, operated by James P. Stoyanoff;

—3 acres at 1050 S. Jeff Davis Parkway, New Orleans, operated by The Delivery Network, Inc.;

—2 acres at 1600 Annunciation Street, New Orleans, operated by PCS;

—5 acres at 402 Alabo Street, New Orleans, operated by the the Port; and,

—4 acres at 4400 N. Galvez Street, New Orleans, operated by NKI.

Site 5, as proposed, will consist of a total of 171 acres total.

No specific manufacturing requests are being made at this time. Such requests would be made to the Board on a case-by case basis.

In accordance with the Board's regulations, a member of the FTZ Staff has been designated examiner to investigate the application and report to the Board.

Public comment on the application is invited from interested parties. Submissions (original and 3 copies) shall be addressed to the Board's Executive Secretary at the address below. The closing period for their receipt is January 21, 2003. Rebuttal comments in response to material submitted during the foregoing period may be submitted during the subsequent 15-day period February 3, 2003.

A copy of the application and accompanying exhibits will be available for public inspection at each of the following locations:

Office of the Port Director, U.S. Customs Service, 423 Canal Street, New Orleans, LA 70130.

Office of the Executive Secretary, Foreign-Trade Zones Board, U.S. Department of Commerce, FCB—Suite 4100 W, 1099 14th St. NW., Washington, DC 20005.

Dated: November 13, 2002.
Dennis Puccinelli,
Executive Secretary.

[FR Doc. 02-29499 Filed 11-19-02; 8:45 am]

BILLING CODE 3510-DS-P